DEPARTMENT OF JUSTICE

Notice of Lodging of Consent Decree Under the Comprehensive Environmental Response, Compensation, and Liability Act (CERCLA)

Notice is hereby given that on October 18, 2011, a proposed complaint was filed and a proposed Consent Decree lodged in the case of United States and the State of Missouri v. Blue Tee Corp., Civil Action No. 11-cv-03408-SWH, in the United States District Court for the Western District of Missouri.

The United States and the State filed a complaint alleging that Blue Tee Corp. is liable pursuant to Section 107(a) of CERCLA in connection with Operable Unit 01 of the Newton County Mine Tailings Superfund Site in Missouri. EPA issued a Record of Decision in June 2010 selecting a remedy to address contamination from mine waste at the Site. The proposed Consent Decree requires Blue Tee Corp. to pay $3 million to EPA and $32,532 to the State of Missouri within thirty (30) days of the effective date of the Decree.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States and the State of Missouri v. Blue Tee Corp., D.J. Ref. No. 90-11-2-07088/2.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the United States Treasury or, if by e-mail or fax, forward a check in that amount to the Consent Decree Library at the stated address.

Robert E. Maher, Jr.,
Assistant Section Chief, Environmental Enforcement Section, Environment and Natural Resources Division.

[FR Doc. 2011-27490 Filed 10-24-11; 8:45 am]

BILLING CODE 4410-15-P